NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 15, 2007, 8:30 a.m.-5:30 p.m.

Place: National Science Foundation, 4201 Wilson Boulevard, Arlington, VA 22230.

Building entry badges must be obtained at the above address; the meeting with be held in Stafford II, Room 555 of the National Science Foundation Building located at 4121 Wilson Boulevard.

Type of Meeting: Open.

Contact Person: Dr. Margaret E.M. Tolbert, Senior Advisor and Executive Liaison, CEOSE, Office of Integrative Activities, National Science Foundation, 4201 Wilson Boulevard, Arlington, VA 22230. Telephone: (703) 292-8040; mtolbert@nsf.gov.

Minutes: May be obtained from the Executive Liaison at the above address.

Purpose of Meeting: To discuss data and related information on Institutions Serving Persons with Disabilities in STEM to help inform CEOSE recommendations to NSF and its decisions pertinent to persons with disabilities.

Agenda

Monday, October 15, 2007

Opening Statement by the CEOSE Ad Hoc Subcommittee Chair

Welcome by the Deputy Director of the National Science Foundation

Panel and General Discussion Topics:

○ Institutions That Serve Large Populations of Students with Disabilities.

○ Practices for Increasing the Quantity and Quality of Students with Disabilities in STEM.

○ Supporting Students with Disabilities in Post-Secondary STEM.

○ Information on Disabilities from the Perspectives of Graduate Students.

○ Hiring and Placement Practices for People with Disabilities within the STEM Workforce.

○ What the Data Show about Students with Disabilities in STEM.

Dated: September 17, 2007.
Susanne Bolton,
Committee Management Officer.

[FR Doc. E7-18596 Filed 9-20-07; 8:45 am]

BILLING CODE 7555-01-P